DEPARTMENT OF HEALTH AND HUMAN SERVICES

Centers for Disease Control and Prevention

[60Day-23-23HC; Docket No. CDC-2023-0066]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed information collection, as required by the Paperwork Reduction Act of 1995. This notice invites comment on a proposed information collection project titled Food safety knowledge, attitude, and practices survey of correctional workers. The proposed data collection will create a baseline for the knowledge, attitude, and practices (KAP) of correctional staff working in a variety of U.S. correctional facilities and will assess the overall food safety approaches to training, and the receptiveness of correctional staff to being a part of food safety at their facilities.

DATES: CDC must receive written comments on or before October 6, 2023.

ADDRESSES: You may submit comments, identified by Docket No. CDC-2023-0066 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Food safety knowledge, attitude, and practices survey of correctional workers—New—National Center for Emerging and Zoonotic Infectious Diseases (NCEZID), Centers for Disease Control and Prevention (CDC).

Background and Brief Description

In 2017, an analysis of Foodborne Disease Outbreak Surveillance System (FDOSS) epidemiology data demonstrated a disproportionately high burden of foodborne outbreaks and outbreak-associated illnesses in correctional facilities compared to other settings. The CDC is implementing training and policy initiatives to reduce foodborne illness in correctional facilities. However, CDC has little understanding of current training and overall food safety culture among individuals working in correctional settings. The proposed survey will allow for the collection of baseline knowledge, attitude, and practices (KAP) of correctional staff working in a variety of U.S. correctional facilities (including Federal, State, Tribal, local and private facilities). The survey will assess overall food safety approaches to training, and the receptiveness of correctional staff to being a part of food safety at their facilities. The information collection request will be open for three years to allow for a follow-up survey to support program evaluation of CDC programmatic and policy initiatives 2-3 years following the initial assessment. There is no legal requirement for CDC to collect this information. However, CDC is the Federal authority on identifying and preventing foodborne illness and as such, is best suited to collect data in support of improved food safety practices at State, local, Federal, and Tribal correctional facilities.

Following the initial baseline data collection, CDC plans to develop food safety best practices which are tailored to the needs and risks of correctional facilities. Best practices will be disseminated via pilot training initiatives through the Integrated Food Safety Centers of Excellence (CoEs) supported by CDC's ELC Cooperative Agreement (CDC RFA CK19-1904). The overall goal of program will be to reduce foodborne illness outbreaks in correctional facilities by increasing training and implementing policy to improve food safety.

CDC requests OMB approval or an estimated 5,000 annual burden hours. There is no cost to respondents other than their time to participate.

Estimated Annualized Burden Hours
Type of respondents | Form name | Number of respondents | Number of responses per respondent | Average burden per response (in hours) | Total burden (in hours)
Correctional workers | KAP survey of correctional workers, baseline and follow-up assessments | 5,000 | 2 | 30/60 | 5,000
Total |  |  |  |  | 5,000

Jeffrey M. Zirger,
Lead, Information Collection Review Office, Office of Public Health Ethics and Regulations, Office of Science, Centers for Disease Control and Prevention.

[FR Doc. 2023-16759 Filed 8-4-23; 8:45 am]

BILLING CODE 4163-18-P